DEPARTMENT OF COMMERCE

National Oceanic and Atmospheric Administration

[I.D. 041505B]

North Pacific Fishery Management Council; Committee Meeting

AGENCY: National Marine Fisheries Service (NMFS), National Oceanic and Atmospheric Administration (NOAA), Commerce.

ACTION: Committee Meeting

SUMMARY: The North Pacific Fishery Management Council's (Council) Crab Plan Team will meet in Seattle, WA May 16-18, 2005 at the Traynor Room at the Alaska Fishery Science Center, 7600 Sand Point Way NE, Bldg 4, Seattle, WA.

DATES: May 16, 17, and 18, 2005.

ADDRESSES: Council address: North Pacific Fishery Management Council, 605 W. 4th Ave., Suite 306, Anchorage, AK 99501-2252.

FOR FURTHER INFORMATION CONTACT: Diana Stram, NPFMC, 907-271-2809.

SUPPLEMENTARY INFORMATION: The meeting will begin on Monday, May 16, 12 noon - 5 pm. Tuesday, May 17, 8:30am to 5 pm. Wednesday May 18, 8:30am-3pm.

The committee's agenda includes the following: Issues related to snow crab abundance estimates based on trawl survey data, discuss analysis of spatial distribution of snow crab surveyed abundance and harvest. Review of State/Federal action plan for Crab Fishery Management Plan (FMP). Review 2004 Bering Sea Aleutian Island (BSAI) FMP crab fisheries, economic aspects of BSAI Crab fisheries. Norton Sound red king crab stock status review. Review of stock assessment models and stock status projections. Summer research issues, Bering Sea Fisheries Research Foundation survey issues. Crab overfishing amendment workgroup review and any New Business.

Special Accommodations

These meetings are physically accessible to people with disabilities. Requests for sign language interpretation or other auxiliary aids should be directed to Gail Bendixen, 907-271-2809, at least 5 working days prior to the meeting date.

[FR Doc. E5-1843 Filed 4-18-05; 8:45 am]

BILLING CODE 3510-22-S